FEDERAL COMMUNICATIONS COMMISSION

47 CFR Part 64

[WC Docket No 13-39; Report No. 2997]

Petitions for Reconsideration of Action in Rulemaking Proceeding

AGENCY: Federal Communications Commission.

ACTION: Petition for reconsideration.

SUMMARY: In this document, Petitions for Reconsideration (Petitions) have been filed in the Commission's Rulemaking proceeding by W. Scott McCollugh, on behalf of Transcom Enhanced Services, Inc.; Mary C. Albert on behalf of Comptel; David L. Nace, on behalf of Carolina West Wireless, Inc.; Charles W. McKee, on behalf of Sprint Corporation; David Cohen, on behalf of United States Telecom Association; and Genevieve Morelli, on behalf of the Independent Telephone & Telecommunications Alliance.

DATES: Oppositions to the Petitions must be filed on or before March 3, 2014. Replies to an opposition must be filed on or before March 11, 2014.

ADDRESSES: Federal Communications Commission, 445 12th Street SW., Washington, DC 20554.

FOR FURTHER INFORMATION CONTACT: For additional information on this proceeding, please contact Gregory Kwan, Wireline Competition Bureau, Competition Division, at (202) 418-1191 or by email at Gregory.Kwan@fcc.gov.

SUPPLEMENTARY INFORMATION: This is a summary of Commission's document, Report No. 2997, released February 4, 2014. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Rural Call Completion, FCC 13-135, published at 78 FR 76218, December 17, 2012 and at 78 FR 76257, December 17, 2013, in WC Docket No. 13-39, and published pursuant to 47 CFR 1.429(e). See § 1.4(b)(1) of the Commission's rules.

Number Of Petitions Filed: 5

Federal Communications Commission.
Gloria J. Miles,
Federal Register Liaison, Office of the Secretary, Office of Managing Director.

[FR Doc. 2014-03287 Filed 2-13-14; 8:45 am]

BILLING CODE 6712-01-P